INTERNATIONAL TRADE COMMISSION

[Investigation No. 337-TA-907]

Certain Vision-Based Driver Assistance System Cameras, Components Thereof, and Products Containing the Same: Notice of the Commission's Determination Finding No Violation of Section 337; Termination of the Investigation

AGENCY: U.S. International Trade Commission.

ACTION: Notice.

SUMMARY: Notice is hereby given that the U.S. International Trade Commission has found no violation of section 337 of the Tariff Act of 1930, 19 U.S.C. 1337, in the above-captioned investigation, and has terminated the investigation.

FOR FURTHER INFORMATION CONTACT: Amanda P. Fisherow, Office of the General Counsel, U.S. International Trade Commission, 500 E Street SW., Washington, DC 20436, telephone (202) 205-2737. The public version of the complaint can be accessed on the Commission's electronic docket (EDIS) at http://edis.usitc.gov, and will be available for inspection during official business hours (8:45 a.m. to 5:15 p.m.) in the Office of the Secretary, U.S. International Trade Commission, 500 E Street SW., Washington, DC 20436, telephone (202) 205-2000. General information concerning the Commission may also be obtained by accessing its Internet server (http://www.usitc.gov). The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on January 28, 2014, based on a complaint filed by Magna Electronics Inc. of Auburn Hills, Michigan. See 79 FR 4490-91 (Jan. 28, 2014). The complaint alleges violations of section 337 of the Tariff Act of 1930, as amended, 19 U.S.C. 1337 (“section 337”), in the importation into the United States, the sale for importation, and the sale within the United States after importation of certain vision-based driver assistance system cameras and components thereof by reason of infringement of certain claims of U.S. Patent Nos. 8,116,929 (“the '929 patent”) and 8,593,521 (“the '521 patent”). The complaint further alleges the existence of a domestic industry. Subsequently, the complaint and notice of investigation were amended by adding U.S. Patent Nos. 8,686,840 (“the '840 patent”) and 8,692,659 (“the '659 patent”), and by terminating the investigation in-part as to all claims of the '521 patent. The '929 patent was later terminated from the investigation. The respondent named in the Commission's notice of investigation is TRW Automotive U.S., LLC of Livonia, Michigan (“TRW”). The Office of Unfair Import Investigations (“OUII”) was also named a party in the investigation.

On April 27, 2015, the ALJ issued his final ID. The ID found that no violation of section 337 has occurred. Specifically, the ID found that the '659 and '840 patents were not indirectly infringed, that the '840 patent is invalid, and that the domestic industry requirement for the '840 patent has not been met. The ALJ also issued his recommendation on remedy and bonding.

On May 11, 2015, Magna and TRW each filed petitions for review. On May 19, 2015, the parties, including OUII, filed responses to the respective petitions for review. On May 28, 2015, Magna filed a corrected response. The Commission determined to review the ID's findings with respect to: (1) Importation; (2) whether the asserted claims of the '659 patent require a camera; (3) direct infringement of the '659 patent; (4) induced infringement of the '659 and '840 patents; (5) contributory infringement of the '659 and '840 patents; (6) whether the '659 patent satisfies the requirements of 35 U.S.C. 112; (7) anticipation of the '659 patent claims based on Rayner; (8) anticipation of the '659 patent claims based on Batavia; (9) anticipation of the '659 patent claims based on the SafeTrac Prototype; (10) obviousness of the '659 patent based on Rayner in combination with Blank; (11) obviousness of the '659 patent based on Batavia, the SafeTrac Prototype, and the Navlab 1997 Demo; (12) whether the claims are invalid under the America Invents Act § 33(a); and (13) the technical prong of domestic industry for the '659 and '840 patents.

On August 17, 2015, the parties briefed the issues on review, remedy, bonding, and the public interest. On August 27, 2015, the parties filed their reply submissions. After the conclusion of this briefing, TRW filed “Respondent's Short Submission Out Of Time Regarding Complainant Admission on Commission Topic 2” and Magna filed a response thereto.

After considering the final ID, written submissions, and the record in this investigation, the Commission has determined to affirm-in-part and reverse-in-part the final ID and to terminate the investigation with a finding of no violation of section 337. Specifically, the Commission finds that (1) the importation requirement has not been satisfied for the '659 patent; (2) the asserted claims of the '659 patent do not require a camera; (3) certain automobiles equipped with a mounting system configured to receive certain accused products directly infringe the '659 patent; (4) the accused products do not contributorily infringe the '659 patent; (5) the accused products do not induce infringement of the '659 patent; (6) claims 1 and 3 of the '659 patent are invalid under 35 U.S.C. 103 based on Rayner in view of Blank; (7) claims 1 and 3 of the '659 patent are not anticipated by Rayner; (8) the asserted claims are not invalid under the America Invents Act § 33(a); (9) the technical prong of the domestic industry requirement for the '840 patent has not been met; and (10) the technical prong of the domestic industry requirement for the '659 patent has not been met. The Commission also (11) takes no position on indirect infringement of the '840 patent; (12) takes no position on importation with respect to the '840 patent; (13) takes no position on whether claim 1 of the '659 patent is invalid based on Batavia, the SafeTrac Prototype, and the Navlab 1997 Demo, either alone or in combination; (14) takes no position on whether the asserted claims of the '659 patent satisfy the requirements of 35 U.S.C. 112; and (15) rejects TRW's filing titled “Respondent's Short Submission Out Of Time Regarding Complainant Admission on Commission Topic 2.”

A Commission Opinion will issue shortly.

The authority for the Commission's determination is contained in section 337 of the Tariff Act of 1930, as amended (19 U.S.C. 1337), and in part 210 of the Commission's Rules of Practice and Procedure (19 CFR part 210).

By order of the Commission.
Issued: October 27, 2015.
William R. Bishop,
Supervisory Hearings and Information Officer.

[FR Doc. 2015-27811 Filed 10-30-15; 8:45 am]

BILLING CODE 7020-02-P